DEPARTMENT OF COMMERCE

Foreign-Trade Zones Board

[Docket 12-2004]

Foreign-Trade Zone 78—Nashville, Tennessee, Application for Subzone, Sanford LP (Pencil Manufacturing and Writing and Art Products Distribution); Shelbyville and Lewisburg, TN

An application has been submitted to the Foreign-Trade Zones Board (the Board) by the Metropolitan Government of Nashville & Davidson County, grantee of FTZ 78, requesting special-purpose subzone status for the pencil manufacturing and writing and art products warehousing/distribution facility of Sanford LP (Sanford), in Shelbyville and Lewisburg, Tennessee. The application was submitted pursuant to the provisions of the Foreign-Trade Zones Act, as amended (19 U.S.C. 81a-81u), and the regulations of the Board (15 CFR part 400). It was formally filed on March 18, 2004.

The Sanford facilities are comprised of three sites: Site 1 (3 buildings, 465,000 sq. ft. on 40 acres)—writing instrument repackaging and marker assembly plant, located at One Pencil Street, Shelbyville (Bedford County); Site 2 (1 building, 490,000 sq. ft. on 21 acres)—pencil manufacturing and art product assembly plant, located at 551 Spring Place Road, Lewisburg (Marshall County); and, Site 3 ( 1 building, 574,000 sq. ft. on 55 acres)—main distribution center, located at 1660 Railroad Avenue, Shelbyville (Bedford County). The facility (800 employees) is used for manufacturing of pencils and pencil components and for the assembly, warehousing, inspection, packaging and distribution of writing and art products. However, manufacturing authority is not being requested at this time. About 7 percent of production is currently exported. Certain pencils (HTSUS 9609.10.00) from China are subject to anti-dumping/countervailing (AD/CVD) duties.

Zone procedures would exempt Sanford from Customs duty payments (including AD/CVD) on foreign products that are re-exported. On domestic sales, the company would be able to defer payments (including AD/CVD) until merchandise is shipped from the plant. FTZ designation would further allow Sanford to utilize certain Customs procedures resulting in increased efficiencies for its logistics and distribution operations. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is June 1, 2004. Rebuttal comments in response to material submitted during the foregoing period may be submitted during the subsequent 15-day period (to June 14, 2004).

A copy of the application and accompanying exhibits will be available for public inspection at the Office of the Foreign-Trade Zones Board's Executive Secretary at address Number 1 listed above, and at the U.S. Department of Commerce Export Assistance Center, 211 Commerce Street, Suite 100, Nashville, TN 37201-1802.

Dated: March 19, 2004.
Dennis Puccinelli,
Executive Secretary.

[FR Doc. 04-7095 Filed 3-29-04; 8:45 am]

BILLING CODE 3510-DS-P